DEPARTMENT OF TRANSPORTATION

Maritime Administration

[Docket No. MARAD 2017-0117]

Maritime Workforce Working Group Request for Public Input

AGENCY: Maritime Administration, Department of Transportation.

ACTION: Notice and request for comments.

SUMMARY: The Maritime Administration (MARAD) invites public comment to examine and assess the size of the pool of United States citizen mariners necessary to support the United States flag fleet in times of national emergency. The purpose of this public notice is to gather comments to assist in the development of a statutorily mandated report to Congress with actionable recommendations.

DATES: The deadline to submit comments is July 31, 2017. See Submitting Your Comments and Opinions below for specific directions.

ADDRESSES: Comments should refer to the docket number above and submitted by one of the following methods:

• Federal Rulemaking Portal: http://www.regulations.gov/. Follow the online instruction for submitted comments.

• Mail: Docket Management Facility, U.S. Department of Transportation, 1200 New Jersey Avenue SE., West Building Ground Floor, Room W12-140, Washington, DC 20590-0001.

Hand Delivery: 1200 New Jersey Avenue SE., West Building Ground Floor, Room W12-140, Washington, DC, between 9 a.m. and 5 p.m. ET, Monday through Friday, except Federal Holidays.

FOR FURTHER INFORMATION CONTACT: Tania Adames, Transportation Industry Analyst, Office of Maritime Workforce Development, Maritime Administration, 1200 New Jersey Avenue SE., Washington, DC 20590; (202) 366-7173; email: Tania.Adames@dot.gov.

SUPPLEMENTARY INFORMATION:

Background

Section 3517 of the National Defense Authorization Act for Fiscal Year 2017 (NDAA) requires MARAD to convene a Maritime Workforce Working Group (MWWG) to examine and assess the size of the pool of United States citizen mariners necessary to support the United States flag fleet in times of national emergency. The statute requires the MWWG to deliver a report to Congress, with results from the study. To assist in the process, MARAD is seeking public input to focus on the following four (4) issues:

1. Identifying the number of United States citizen mariners;

2. Assessing the impact on the United States merchant marine and United States Merchant Marine Academy if graduates from State Maritime Academies and the United States Merchant Marine Academy were assigned to, or required to fulfill, certain maritime positions based on the overall needs of the United States merchant marine;

3. Assessing the Coast Guard Merchant Mariner Licensing and Documentation System and its accessibility and value to the Maritime Administration for the purposes of evaluating the pool of United States citizen mariners; and

4. Making recommendations to enhance the availability and quality of interagency data, including data from the United States Transportation Command, the Coast Guard, the Navy, and the Bureau of Transportation Statistics, for use by the Maritime Administration for evaluating the pool of United States citizen mariners.

Submitting Your Comments and Opinions

1. We have opened a docket at http://www.regulations.gov to allow for submission of written comments for consideration by the MWWG.

2. You may submit your inputs identified by DOT Docket Number MARAD-2017-0117 by any of the following methods: Web site/Federal eRulemaking Portal, Fax, Mail or Hand Delivery. Please use only one of these means for each submission. All submissions must include the agency name and docket number for this matter. Specific instructions follow.

3. For the Web site/Federal eRulemaking Portal, go to http://www.regulations.gov. Follow the instructions for submitting comments on the electronic docket site. To submit your input, type the docket number MARAD-2017-0117 in the “SEARCH” box and click “SEARCH.” Click on “Submit a Comment” on the line associated with this Docket Number. If you submit comment via www.regulations.gov, please note that inputs submitted to www.regulations.gov are not immediately posted to the site. It may take several business days before your submission will be posted on the electronic docket.

4. For submission by telefacsimile/FAX, transmit your agenda topic, comment or idea to (202) 493-2251. Be sure to identify the submission by DOT Docket Number MARAD-2017-0117.

5. Submissions by Mail or Hand Delivery should go to Docket Management Facility, U.S. Department of Transportation, 1200 New Jersey Avenue SE., West Building, Room W12-140, Washington, DC 20590, between 9:00 a.m. and 5:00 p.m., Monday through Friday, except on Federal holidays. If you submit your inputs by mail or hand delivery, submit them in an unbound format, no larger than 8 ½ by 11 inches, suitable for copying and electronic filing. If you submit comments by mail and would like to know that they reached the Facility, please enclose a stamped, self-addressed postcard or envelope.

6. If you FAX, mail, or hand deliver your input we recommend that you include your name and a mailing address, an email address, or a telephone number in the body of your document so that we can contact you if we have questions regarding your submission.

7. Note: All comments submitted for this purpose, including any personal information provided, will be posted without change to http://www.regulations.gov.

8. For access to the docket to read background documents or inputs received, go to http://www.regulations.gov at any time or to Room W12-140 of the Department of Transportation, 1200 New Jersey Avenue SE., Washington, DC 20590, between 9:00 a.m. and 5:00 p.m., Monday through Friday, except Federal Holidays. To view the docket electronically, type the docket number “MARAD-2017-0117” in the “SEARCH” box and click “Search.” Click and Open Docket Folder on the line associated with this rulemaking.

Privacy Act Statement

In accordance with 5 U.S.C. 553(c), DOT solicits comments from the public to better inform its rulemaking process. DOT posts these comments, without edit, to www.regulations.gov, as described in the system of records notice, DOT/ALL-14 FDMS, accessible through www.dot.gov/privacy. In order to facilitate comment tracking and response, we encourage commenters to provide their name, or the name of their organization; however, submission of names is completely optional. Whether or not commenters identify themselves, all timely comments will be fully considered. If you wish to provide comments containing proprietary or confidential information, please contact the agency for alternate submission instructions.

Authority: 5 U.S.C. 610; E.O., 13563, 76 FR 3821, Jan. 21 2011; E.O. 12866, 58 FR 51735, Oct. 4, 1993.

By Order of the Executive Director in lieu of the Maritime Administrator.
Dated: July 3, 2017.
T. Mitchell Hudson, Jr.,
Secretary, Maritime Administration.

[FR Doc. 2017-14319 Filed 7-7-17; 8:45 am]

BILLING CODE 4910-81-P